DEPARTMENT OF HEALTH AND HUMAN SERVICES

Health Resources and Services Administration

Agency Information Collection Activities: Proposed Collection: Public Comment Request; Information Collection Request Title: Evaluation of the Maternal and Child Health Bureau Pediatric Mental Health Care Access (PMHCA) Program and the Maternal and Child Health Bureau Screening and Treatment for Maternal Depression and Related Behavioral Disorders Program, OMB No. 0906-xxxx, New

AGENCY: Health Resources and Services Administration (HRSA), Department of Health and Human Services.

ACTION: Notice.

SUMMARY: In compliance with the requirement of the Paperwork Reduction Act of 1995 for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR should be received no later than December 16, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Evaluation of Maternal and Child Health Bureau Pediatric Mental Health Care Access Program and the Maternal and Child Health Bureau Screening and Treatment for Maternal Depression and Related Behavioral Disorders Program, OMB No. 0906-xxxx—New.

Abstract: HRSA's Maternal and Child Health Bureau Pediatric Mental Health Care Access (PMHCA) and Maternal Depression and Related Behavioral Disorders (MDRBD) programs aim to increase identification of behavioral health conditions by screening specified populations (e.g., children, adolescents, young adults, and pregnant and postpartum women, especially those living in rural, isolated, and underserved areas); providing clinical behavioral health consultation; care coordination support (e.g., communication/collaboration, accessing resources, referral services) and training to health care providers; and increasing access to clinical interventions including by telehealth. Provider education and training will support the knowledge and skills acquisition needed to accomplish this goal. PMHCA program is authorized by the Public Health Service Act, § 330M (42 U.S.C. 254c-19), as amended. The MDRBD program is authorized by the Public Health Service Act, § 317L-1 (42 U.S.C. 247b-13a), as amended. In order to evaluate progress made toward the programs' goals, this data collection will use four instruments: Health Care Provider (HCP) Survey, Practice-Level Survey, Program Implementation Survey, and Program Implementation Semi-Structured Interview.

Need and Proposed Use of the Information: This information is needed to evaluate the PMHCA and MDRBD Programs by providing HRSA with the necessary information to guide future policy decisions regarding increasing health care providers capacity to address patient's behavioral health and access to behavioral health services. Specifically, data collected for the evaluation will be used to study the efforts of awardee programs to achieve key awardee outcomes (e.g., increase in access to behavioral health services; providers trained; available community-based resources, including counselors or family service providers) and to measure whether and to what extent awardee programs are associated with changes in these key awardee outcomes. The evaluation will also examine changes over time, within a state and/or across the PMCHA and MDRBD programs, with regard to (1) enrolled providers/practices related to screening, referral, and care coordination for behavioral health conditions; (2) provision of behavioral health services for mental health conditions in primary care settings by enrolled health care providers; (3) use of consultative services; and (4) facilitation of access to behavioral health services for mental health conditions.

Likely Respondents: Both HCP and Practice-Level Survey responses will be collected from health care providers and practices that are participating in the PMCHA and MDRBD programs. Likely respondents include:

• HCP Surveys: Physicians, nurse practitioners, physician assistants, nurse midwives (for MDBRD), other health care professionals (e.g., behavioral health providers, case coordinators, nurses, social workers)

• Practice-Level Surveys: Practice managers (e.g., office managers, office leadership, nurse champions)

• Program Implementation Surveys and Semi-Structured Interviews: PMHCA and MDRBD cooperative agreement-funded Project Directors/Principal Investigators

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Tota burden hours
Health Care Provider Survey | 13,035 | 3 | 39,105 | 0.17 | 6,648
Practice-Level Survey | 4,165 | 3 | 12,495 | 0.25 | 3,124
Program Implementation Survey | 28 | 3 | 84 | 0.50 | 42
Program Implementation Semi-Structured Interview | 28 | 1 | 28 | 1.00 | 28
Total | 17,256 |  | 51,712 |  | 9,842

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2019-22636 Filed 10-16-19; 8:45 am]

BILLING CODE 4165-15-P